DEPARTMENT OF COMMERCE

National Oceanic and Atmospheric Administration

Federal Consistency Appeal by Mr. G. Walter Swain

AGENCY: National Oceanic and Atmospheric Administration (NOAA), Department of Commerce (Commerce).

ACTION: Notice of closure—administrative appeal decision record.

SUMMARY: This announcement provides notice that the decision record has been closed for an administrative appeal filed with the Department of Commerce by Mr. G. Walter Swain.

DATES: The decision record for the administrative appeal of Mr. G. Walter Swain was closed on August 12, 2008.

ADDRESSES: Materials from the appeal record are available at the Internet site http://www.ogc.doc.gov/czma.htm and at the Office of the General Counsel for Ocean Services, National Oceanic and Atmospheric Administration, U.S. Department of Commerce, 1305 East-West Highway, Silver Spring, MD 20910.

FOR FURTHER INFORMATION CONTACT: Thomas Street, Attorney-Advisor, NOAA Office of General Counsel for Ocean Services, via e-mail at thomas.street@noaa.gov, or at 301-713-7390.

SUPPLEMENTARY INFORMATION: On February 4, 2008, Mr. G. Walter Swain filed notice of an appeal with the Secretary of Commerce (Secretary), pursuant to the Coastal Zone Management Act of 1972 (CZMA), 16 U.S.C. 1451 et seq., and implementing regulations found at 15 CFR Part 930, Subpart H. Mr. Swain appealed an objection by the State of Delaware in the proposed construction of a marina and associated structures at the confluence of Cedar Creek and Mispillion River, in Milford, Delaware.

Mr. Swain requested that the Secretary override Delaware's objection based upon an alleged threshold deficiency in the objection and on the grounds that the project is consistent with the objectives of the CZMA or otherwise necessary in the interest of national security. Decisions for CZMA administrative appeals are based on information contained in a decision record. Under the CZMA, the decision record must close no later than 220 days after notice of the appeal was first published in the Federal Register. See 16 U.S.C. 1465; 15 CFR 930.130. The CZMA requires that a notice be published in the Federal Register indicating the date on which the decision record has been closed. See 16 U.S.C. 1465(b); 15 CFR 930.130. Consistent with this deadline, the Swain appeal decision record was closed on August 12, 2008. No further information, briefs or comments will be considered in deciding this appeal.

Additional information about the Swain appeal and the CZMA appeals process is available from the Department of Commerce CZMA appeals Web site: http://www.ogc.doc.gov/czma.htm.

(Federal Domestic Assistance Catalog No. 11.419 Coastal Zone Management Program Assistance.)

Dated: August 7, 2008.
Joel La Bissonniere,
Assistant General Counsel for Ocean Services.

[FR Doc. E8-18658 Filed 8-11-08; 8:45 am]

BILLING CODE 3510-08-P